NATIONAL ARCHIVES AND RECORDS ADMINISTRATION

Nixon Presidential Historical Materials: Opening of Materials

AGENCY: National Archives and Records Administration

ACTION: Notice of opening of additional materials

SUMMARY: This notice announces the opening of additional Nixon Presidential Historical Materials by the Richard Nixon Presidential Library and Museum, a division of the National Archives and Records Administration. Notice is hereby given that, in accordance with section 104 of Title I of the Presidential Recordings and Materials Preservation Act (PRMPA, 44 U.S.C. 2111 note) and 1275.42(b) of the PRMPA Regulations implementing the Act (36 CFR Part 1275), the Agency has identified, inventoried, and prepared for public access additional textual materials with certain information redacted as required by law, including the PRMPA.

DATES: The Richard Nixon Presidential Library and Museum intends to make the materials described in this notice available to the public on Tuesday, October 23, 2012, at the Richard Nixon Library and Museum's primary location in Yorba Linda, CA, beginning at 10:00 a.m. PDT/1:00 p.m. EDT. In accordance with 36 CFR 1275.44, any person who believes it necessary to file a claim of legal right or privilege concerning access to these materials must notify the Archivist of the United States in writing of the claimed right, privilege, or defense within 30 days of the publication of this notice.

ADDRESSES: The Richard Nixon Presidential Library and Museum, a division of the National Archives, is located at 18001 Yorba Linda Blvd., Yorba Linda, CA. Researchers must have a NARA researcher card, which they may obtain when they arrive at the Library. Selections from these materials will be available at www.nixonlibrary.gov. Petitions asserting a legal or constitutional right or privilege that would prevent or limit public access to the materials must be sent to the Archivist of the United States, National Archives at College Park, 8601 Adelphi Rd., College Park, Maryland 20740-6001.

FOR FURTHER INFORMATION CONTACT: Paul Wormser, Acting Director, Richard Nixon Presidential Library and Museum, 714-983-9119.

SUPPLEMENTARY INFORMATION: The following materials will be made available in accordance with this notice:

1. Previously restricted textual materials. Volume: 91 documents consisting of approximately 1,000 pages. A number of textual materials previously withheld from public access have been reviewed for release and/or declassified under the systematic declassification review provisions of Executive Order 13526, the Freedom of Information Act (5 U.S.C. 552), or in accordance with 36 CFR 1275.56 (Public Access regulations). The materials are from integral file segments for the National Security Council Institutional Files; and the Henry A. Kissinger (HAK) Office Files.

Dated: September 7, 2012.
David Ferriero,
Archivist of the United States.

[FR Doc. 2012-22993 Filed 9-18-12; 8:45 am]

BILLING CODE 7515-01-P